DEPARTMENT OF COMMERCE

National Oceanic and Atmospheric Administration

50 CFR Part 648

[Docket No. 000407096-0096-01 ; I.D. 050205A]

Magnuson-Stevens Act Provisions; Fisheries of the Northeastern United States; Northeast Multispecies Fishery; Commercial Haddock Harvest

AGENCY: National Marine Fisheries Service (NMFS), National Oceanic and Atmospheric Administration (NOAA), Commerce.

ACTION: Removal of haddock trip limits.

SUMMARY: NMFS announces that the Administrator, Northeast Region, NMFS (Regional Administrator), is eliminating the daily and maximum haddock trip limits for the groundfish fishery for the remainder of the 2005 fishing year, through April 30, 2006. Accordingly, there is no trip limit on the amount of haddock that can be harvested or landed for the rest of the fishing year for vessels subject to these regulations. The Regional Administrator has projected that less than 75 percent of the haddock target total allowable catch (TAC) will be harvested for the 2005 fishing year under the restrictive daily possession and trip limits. This action is intended to allow fishermen to catch the haddock TAC, without exceeding the TAC.

DATES: Effective May 3, 2005, through April 30, 2006.

FOR FURTHER INFORMATION CONTACT: Thomas Warren, Fishery Policy Analyst, phone (978) 281-9347, fax (978) 281-9135, e-mail Thomas.Warren@NOAA.gov.

SUPPLEMENTARY INFORMATION: Framework Adjustment 33 to the Northeast (NE) Multispecies Fishery Management Plan (FMP), which became effective May 1, 2000, implemented the current haddock trip limit regulations (65 FR 21658). To ensure that haddock landings do not exceed the appropriate target TAC, Framework 33 established a haddock trip limit of 3,000 lb (1,360.8 kg) per NE multispecies day-at-sea (DAS) and a maximum trip limit of 30,000 lb (13,608 kg) of haddock for the period May 1 through September 30; and 5,000 lb (2,268 kg) of haddock per DAS and 50,000 lb (22,680 kg) per trip from October 1 through April 30. Framework 33 also implemented a mechanism to adjust the haddock trip limit based upon the percentage of TAC that is projected to be harvested. Section 648.86(a)(1)(iii)(B) specifies that, if the Regional Administrator projects that less than 75 percent of the haddock target TAC will be harvested in the fishing year, the trip limit may be adjusted or eliminated. Further, the regulations require that NMFS publish notification in the Federal Register informing the public of the date of any change to the trip limit.

The Supplemental Environmental Impact Statement (SEIS) prepared for Amendment 13 to the FMP (Amendment 13) estimated the total target TAC for the Gulf of Maine (GOM) and Georges Bank (GB) haddock stocks for the 2005 fishing year at 32,427 mt (71,487,267 lb), including both U.S. and Canadian landings. The Canadian quota for eastern GB haddock was set at 15,410 mt (33,972,270 lb). Therefore, the U.S. portion of the total target TAC for haddock for the 2005 fishing year is the difference between the entire haddock target TAC and the Canadian TAC, or 17,017 mt (37,514,997 lb). This amount includes the target TAC for the GOM and GB haddock stocks, as well as a haddock TAC of 7,590 mt (16,732,610 lb) specific to the Eastern U.S./Canada Area.

Based on recent historical fishing practices and preliminary landings data, the Regional Administrator has projected that less than 75 percent of the haddock target TAC for the 2005 fishing year (17,017 mt) will be harvested by April 30, 2006, under the restrictive daily possession and trip limits. Furthermore, this projection indicates that eliminating the daily and maximum trip limits for haddock would not likely precipitate haddock landings reaching the Eastern U.S./Canada Area haddock TAC of 7,590 mt. The Regional Administrator has therefore determined that eliminating the 3,000-lb (1,360.8-kg) and 5,000-lb (2,268-kg) daily haddock possession limits as well as the associated 30,000-lb (13,608-kg) and 50,000-lb (22,680-kg) per trip possession limits for May 1 through September 30, 2005, and October 1, 2005, through April 30, 2006, respectively, will increase the likelihood that at least 75 percent of the target TAC will be harvested for the 2005 fishing year. In order to prevent the TAC from being exceeded, the Regional Administrator will continue to monitor haddock landings and adjust the trip limit through publication of a notification in the Federal Register, pursuant to § 648.86(a)(1)(iii), if necessary.

Classification

The Assistant Administrator for Fisheries, NOAA, finds good cause to waive the requirement to provide prior notice and opportunity for public comment pursuant to the authority set forth at 5 U.S.C. 553(b)(B) as such requirement is impracticable and contrary to the public interest in this instance. To further delay the elimination of the haddock trip limits is contrary to the public interest because it would unnecessarily result in wasteful discards and prevent the haddock fishery from achieving optimum yield. Moreover, the public had opportunity to comment on the adjustment of haddock trip limits and its consequences at the time the trip limits were implemented.

This action relieves a restriction by eliminating unnecessary daily and maximum trip limits for haddock for the remainder of the 2005 fishing year. These limits were implemented to prevent the target TAC for haddock from being exceeded. The target TAC for haddock has not been exceeded since 1996. Eliminating these restrictions will allow the fishing industry to harvest at least 75 percent of the target TAC for haddock during the 2005 fishing year. Further, eliminating these restrictions will allow vessels to possess and land haddock in excess of the daily and maximum trip limits, thereby preventing biological waste and providing an opportunity to offset some of the adverse economic impacts resulting from the implementation of Amendment 13. Therefore, because this rule relieves a restriction pursuant to 5 U.S.C. 553(d)(1) of the Administrative Procedure Act, the Assistant Administrator for Fisheries, NOAA, waives the 30-day delay in effectiveness date for this final rule. This action is required by 50 CFR part 648 and is exempt from review under Executive Order 12866.

Authority: 16 U.S.C. 1801 et seq.

Dated: May 2, 2005.
Alan D. Risenhoover,
Acting Director, Office of Sustainable Fisheries, National Marine Fisheries Service.

[FR Doc. 05-9125 Filed 5-3-05; 2:24 pm]

BILLING CODE 3510-22-S